DEPARTMENT OF HEALTH AND HUMAN SERVICES

Centers for Disease Control and Prevention

National Vaccine Advisory Committee Meeting

In accordance with section 10(a)(2) of the Federal Advisory Committee Act (Pub. L. 92-463), the Centers for Disease Control and Prevention (CDC) announces the following Federal Advisory Committee meeting.

Name: National Vaccine Advisory Committee (NVAC).

Times and Date: 10 a.m.-1 p.m., October 2, 2001.

Place: Audio Conference Call.

Status: This meeting is open to the public, telephone lines are limited. The public can join the meeting by Audio Conference Call by calling (888) 396-9928 and providing the following information:

Leaders Name: Sagar.

Password: NVAC.

Purpose: This committee advises and makes recommendations to the Director of the National Vaccine Program on matters related to the Program responsibilities.

Matters To Be Discussed: Agenda items will include, but not be limited to: A report from the National Vaccine Program Office (NVPO) and the Interagency Vaccine Workgroup; Institute of Medicine (IOM) Report on Thimerasol in Vaccines; a report on the Workgroup on Public Health Options for Implementing Vaccine Recommendations Regional Meetings; an update on Vaccine Supply and a Report from the NVAC Vaccine Supply Workgroup; and a discussion of future priorities of the IOM Vaccine Safety Committee.

Agenda items are subject to change as priorities dictate.

Pubic comments will be permitted at the end of the NVAC meeting on October 2, 2001.

An unavoidable administrative delay prevented meeting the 15-day publication requirement.

CONTACT PERSON FOR MORE INFORMATION: Gloria Sagar, Committee Management Specialist, NVPO, CDC, 4770 Buford Highway, M/S K-77, Atlanta, Georgia 30333, telephone (770)488-2040.

The Director, Management Analysis and Services office has been delegated the authority to sign Federal Register notices pertaining to announcements of meetings and other committee management activities for both the Centers for Disease Control and Prevention and the Agency for Toxic Substances and Disease Registry.

Dated: September 24, 2001.
John Burckhardt,
Acting Director, Management Analysis and Services Office, Centers for Disease Control and Prevention.

[FR Doc. 01-24303 Filed 9-27-01; 8:45 am]

BILLING CODE 4163-18-P